DEPARTMENT OF TRANSPORTATION

Federal Aviation Administration

14 CFR Part 97

[Docket No. 30697 Amdt. No 3348]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 23, 2009. The compliance date for each SIAP, associated Takeoff Minimums, and ODP is specified in the amendatory provisions.

The incorporation by reference of certain publications listed in the regulations is approved by the Director of the Federal Register as of November 23, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866;(2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on November 13, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective December 17, 2009

St George, AK, St George, Takeoff Minimums and Obstacle DP, Amdt 1

Wrangell, AK, Wrangell, VOR/DME-B, Amdt 1, CANCELLED

Pell City, AL, St. Clair County, RNAV (GPS) RWY 3, Amdt 2

Pell City, AL, St. Clair County, RNAV (GPS) RWY 21, Amdt 2

Pell City, AL, St. Clair County, Takeoff Minimums and Obstacle DP, Amdt 2

Pell City, AL, St. Clair County, VOR-A, Amdt 9

Nogales, AZ, Nogales Intl, Takeoff Minimums and Obstacle DP, Amdt 2

Chico, CA, Chico Muni, ILS OR LOC/DME RWY 13L, Amdt 12

Wilmington, DE, New Castle, ILS OR LOC RWY 1, Amdt 22

Avon Park, FL, Avon Park Executive, Takeoff Minimums and Obstacle DP, Amdt 1

Marco Island, FL, Marco Island, GPS RWY 17, Orig-A, CANCELLED

Marco Island, FL, Marco Island, GPS RWY 35, Orig-A, CANCELLED

Marco Island, FL, Marco Island, RNAV (GPS) RWY 17, Orig

Marco Island, FL, Marco Island, RNAV (GPS) RWY 35, Orig

Marco Island, FL, Marco Island, Takeoff Minimums and Obstacle DP, Amdt 2

Miami, FL, Kendall-Tamiami Executive, RNAV (GPS) RWY 9L, Orig-A

Naples, FL, Naples Muni, Takeoff Minimums and Obstacle DP, Amdt 2

Sebring, FL, Sebring Rgnl, RNAV (RNP) RWY 18, Orig

West Palm Beach, FL, Palm Beach Intl, ILS OR LOC RWY 10L, Amdt 25

West Palm Beach, FL, Palm Beach Intl, ILS OR LOC RWY 28R, Amdt 3

West Palm Beach, FL, Palm Beach Intl, RNAV (GPS) Y RWY 10L, Amdt 2

West Palm Beach, FL, Palm Beach Intl, RNAV (GPS) Y RWY 14, Amdt 2

West Palm Beach, FL, Palm Beach Intl, RNAV (GPS) Y RWY 28R, Amdt 2

West Palm Beach, FL, Palm Beach Intl, RNAV (GPS) Y RWY 32, Amdt 2

Thomaston, GA, Thomaston-Upson County, RNAV (GPS) RWY 30, Orig

Chariton, IA, Chariton Muni, GPS RWY 10, Orig-A, CANCELLED

Chariton, IA, Chariton Muni, RNAV (GPS) RWY 10, Orig

Chariton, IA, Chariton Muni, RNAV (GPS) RWY 17, Orig

Chariton, IA, Chariton Muni, Takeoff Minimums and Obstacle DP, Orig

Idaho Falls, ID, Idaho Falls Rgnl, Takeoff Minimums and Obstacle DP, Amdt 4

Rochelle, IL, Rochelle Muni-Koritz Field, RNAV (GPS) RWY 25, Orig-A

Rochelle, IL, Rochelle Muni-Koritz Field, VOR-A, Amdt 8A

Huntingburg, IN, Huntingburg, GPS RWY 9, Orig, CANCELLED

Huntingburg, IN, Huntingburg, GPS RWY 27, Orig, CANCELLED

Huntingburg, IN, Huntingburg, RNAV (GPS) RWY 9, Orig

Huntingburg, IN, Huntingburg, RNAV (GPS) RWY 27, Orig

Lewisport, KY, Hancock Co-Ron Lewis Field, RNAV (GPS) RWY 5, Orig

Lewisport, KY, Hancock Co-Ron Lewis Field, RNAV (GPS) RWY 23, Orig

Lewisport, KY, Hancock Co-Ron Lewis Field, Takeoff Minimums and Obstacle DP, Orig

Bogalusa, LA, George R Carr Memorial Air Field, LOC RWY 18, Amdt 2

Bogalusa, LA, George R Carr Memorial Air Field, Takeoff Minimum and Obstacle DP, Amdt 2

Winnfield, LA, David G. Joyce, NDB OR GPS RWY 8, Amdt 2B, CANCELLED

Mankato, MN, Mankato Rgnl, GPS RWY 22, Orig, CANCELLED

Mankato, MN, Mankato Rgnl, RNAV (GPS) RWY 4, Orig

Mankato, MN, Mankato Rgnl, RNAV (GPS) RWY 22, Orig

St Louis, MO, Lambert-St Louis Intl, ILS OR LOC RWY 12R, Amdt 21E

Okolona, MS, Okolona Muni-Richard Stovall Field, RNAV (GPS) RWY 18, Orig

Okolona, MS, Okolona Muni-Richard Stovall Field, RNAV (GPS) RWY 36, Orig

Okolona, MS, Okolona Muni-Richard Stovall Field, VOR/DME OR GPS RWY 18, Amdt 5, CANCELLED

Butte, MT, Bert Mooney, ILS Y RWY 15, Amdt 7

Charlotte, NC, Charlotte/Douglas Intl, Takeoff Minimums and Obstacle DP, Amdt 5

Neligh, NE, Antelope County, RNAV (GPS) RWY 1, Orig

Neligh, NE, Antelope County, RNAV (GPS) RWY 19, Orig

Neligh, NE, Antelope County, Takeoff Minimums and Obstacle DP, Orig

Sidney, NE, Sidney Muni/Lloyd W Carr Field, VOR RWY 31, Amdt 8

Rochester, NH, Skyhaven, GPS RWY 33, Orig-B, CANCELLED

Rochester, NH, Skyhaven, NDB-B, Amdt 2

Rochester, NH, Skyhaven, RNAV (GPS) RWY 33, Orig

Rochester, NH, Skyhaven, Takeoff Minimums and Obstacle DP, Amdt 6

Rochester, NH, Skyhaven, VOR/DME-A, Amdt 2

Teterboro, NJ, Teterboro, RNAV (RNP) RWY 19, Orig-A

Teterboro, NJ, Teterboro, RNAV (RNP) Z RWY 6, Orig-A

Jamestown, NY, Chautauqua County/Jamestown, ILS OR LOC RWY 25, Amdt 7

Jamestown, NY, Chautauqua County/Jamestown, RNAV (GPS) RWY 7, Amdt 1

Jamestown, NY, Chautauqua County/Jamestown, RNAV (GPS) RWY 25, Amdt 1

Jamestown, NY, Chautauqua County/Jamestown, RNAV (GPS) Y RWY 25, Orig, CANCELLED

Massena, NY, Massena Intl-Richards Field, Takeoff Minimums and Obstacle DP, Amdt 8

New York, NY, John F. Kennedy Intl, RNAV (RNP) Z RWY 31R, Orig-A

Springfield, OH, Springfield-Beckley Muni, ILS OR LOC RWY 24, Amdt 2

Springfield, OH, Springfield-Beckley Muni, NDB RWY 24, Amdt 17

Springfield, OH, Springfield-Beckley Muni, RNAV (GPS) RWY 6, Orig

Springfield, OH, Springfield-Beckley Muni, RNAV (GPS) RWY 24, Orig

Springfield, OH, Springfield-Beckley Muni, VOR RWY 6, Amdt 11

Kutztown, PA, Kutztown, RNAV (GPS)-A, Orig, CANCELLED

Kutztown, PA, Kutztown, Takeoff Minimums and Obstacle DP, Orig, CANCELLED

Kutztown, PA, Kutztown, VOR-B, Amdt 1B, CANCELLED

Saluda, SC, Saluda County, Takeoff Minimums and Obstacle DP, Orig

Columbia/Mt Pleasant, TN, Maury County, GPS RWY 24, Orig, CANCELLED

Columbia/Mt Pleasant, TN, Maury County, RNAV (GPS) RWY 6, Orig

Columbia/Mt Pleasant, TN, Maury County, RNAV (GPS) RWY 24, Orig

Columbia/Mt Pleasant, TN, Maury County, VOR/DME-A, Amdt 4

Beaumont/Port Arthur, TX, Southeast Texas Rgnl, ILS OR LOC RWY 12, Amdt 23

Beaumont/Port Arthur, TX, Southeast Texas Rgnl, LOC BC RWY 30, Amdt 20

Beaumont/Port Arthur, TX, Southwest Texas Rgnl, Takeoff Minimums and Obstacle DP, Orig

Bridgeport, TX, Bridgeport Muni, Takeoff Minimums and Obstacle DP, Amdt 2

Burnet, TX, Burnet Muni/Kate Craddock Field, GPS RWY 1, Amdt 1, CANCELLED

Burnet, TX, Burnet Muni/Kate Craddock Field, GPS RWY 19, Orig, CANCELLED

Burnet, TX, Burnet Muni/Kate Craddock Field, NDB RWY 1, Amdt 6

Burnet, TX, Burnet Muni/Kate Craddock Field, RNAV (GPS) RWY 1, Orig

Burnet, TX, Burnet Muni/Kate Craddock Field, RNAV (GPS) RWY 19, Orig

Burnet, TX, Burnet Muni/Kate Craddock Field, Takeoff Minimums and Obstacle DP, Amdt 1

Dallas, TX, Collins County Rgnl at McKinney, ILS OR LOC RWY 17, Amdt 3

Dallas, TX, Collins County Rgnl at McKinney, RNAV (GPS) RWY 17, Amdt 1

Dallas, TX, Collins County Rgnl at McKinney, RNAV (GPS) RWY 35, Amdt 1

Dallas, TX, Collins County Rgnl at McKinney, Takeoff Minimums and Obstacle DP, Amdt 1

Killeen, TX, Skylark Field, NDB OR GPS RWY 1, Amdt 5C, CANCELLED

Tooele, UT, Bolinder Field-Tooele Valley, RNAV (GPS) RWY 17, Amdt 2A

Tooele, UT, Bolinder Field-Tooele Valley, RNAV (GPS) Y RWY 17, Orig, CANCELLED

Eastsound, WA, Orcas Island, Takeoff Minimums and Obstacle DP, Amdt 1

Milwaukee, WI, General Mitchell Intl, ILS OR LOC RWY 1L, ILS RWY 1L (CAT II), ILS RWY 1L (CAT III), Amdt 9

Milwaukee, WI, General Mitchell Intl, RNAV (GPS) RWY 1L, Amdt 1

Minocqua-Woodruff, WI, Lakeland/Noble F. Lee Memorial Field, LOC RWY 36, Amdt 1

Minocqua-Woodruff, WI, Lakeland/Noble F. Lee Memorial Field, NDB RWY 28, Amdt 12

Minocqua-Woodruff, WI, Lakeland/Noble F. Lee Memorial Field, NDB OR GPS RWY 18, Amdt 12A, CANCELLED

Minocqua-Woodruff, WI, Lakeland/Noble F. Lee Memorial Field, NDB OR GPS RWY 36, Amdt 9A, CANCELLED

Minocqua-Woodruff, WI, Lakeland/Noble F. Lee Memorial Field, RNAV (GPS) RWY 18, Orig

Minocqua-Woodruff, WI, Lakeland/Noble F. Lee Memorial Field, RNAV (GPS) RWY 28, Orig

Minocqua-Woodruff, WI, Lakeland/Noble F. Lee Memorial Field, RNAV (GPS) RWY 36, Orig

Minocqua-Woodruff, WI, Lakeland/Noble F. Lee Memorial Field, Takeoff Minimums and Obstacle DP, Orig

Sheboygan, WI, Sheboygan County Memorial, ILS OR LOC/DME RWY 21, Amdt 3

Sheboygan, WI, Sheboygan County Memorial, RNAV (GPS) RWY 3, Amdt 2

Sheboygan, WI, Sheboygan County Memorial, RNAV (GPS) RWY 21, Amdt 2

Sheboygan, WI, Sheboygan County Memorial, VOR RWY 3, Amdt 8

Sheboygan, WI, Sheboygan County Memorial, VOR RWY 21, Amdt 8

[FR Doc. E9-27898 Filed 11-20-09; 8:45 am]

BILLING CODE 4910-13-P